DEPARTMENT OF HOMELAND SECURITY

Coast Guard

33 CFR Part 117

[Docket No. USCG-2018-0751]

Drawbridge Operation Regulation; Sloop Channel, Hempstead, NY

AGENCY: Coast Guard, DHS.

ACTION: Notice of deviation from drawbridge regulation.

SUMMARY: The Coast Guard has issued a temporary deviation from the operating schedule that governs the Meadowbrook State Parkway Bridge across Sloop Channel, mile 12.8, at Hempstead, NY. The deviation is necessary to complete structural, mechanical, and electrical rehabilitations on the bridge. This temporary deviation allows the bridge to remain in the closed-to-navigation position for two short periods, and allows the bridge to open only one bascule span at a time over various periods to facilitate bridge repairs.

DATES: This deviation is effective from 7 a.m. on September 28, 2018 to 7 a.m. on December 13, 2018.

ADDRESSES: The docket for this deviation, USCG-2018-0751 is available at http://www.regulations.gov. Type the docket number in the “SEARCH” box and click “SEARCH”. Click on Open Docket Folder on the line associated with this deviation.

FOR FURTHER INFORMATION CONTACT: If you have questions on this temporary deviation, call or email Stephanie E. Lopez, Bridge Management Specialist, First District Bridge Branch, U.S. Coast Guard; telephone 212-514-4335, email Stephanie.E.Lopez@uscg.mil.

SUPPLEMENTARY INFORMATION: The owner of the bridge, the New York State Department of Transportation, requested a temporary deviation to facilitate the various structural, mechanical, and electrical rehabilitations. The spanlock platforms and machinery for both the Northbound and Southbound Bridge will be replaced in their entirety. Trunnion tower and rack gear supports repairs will be performed, and the bridge instrumentation will be replaced. The Meadowbrook State Parkway Bridge across the Sloop Channel, mile 12.8, has a vertical clearance in the closed position of 22 feet at mean high water and 25 feet at mean low water. The existing bridge operating regulations are found at 33 CFR 117.799(h).

This temporary deviation allows the Meadowbrook State Parkway Bridge to open only one bascule span at a time between 7 a.m. and 3 p.m., providing a minimum of 43 feet of available horizontal clearance, on the following days: September 28, 2018; October 1-5, 2018; November 26-30, 2018; and December 3, 2018.

Additionally, the Meadowbrook State Parkway Bridge shall remain in the closed position from 7 a.m. on October 15, 2018 through 7 a.m. on October 17, 2018 and from 7 a.m. on December 11, 2018 to 7 a.m. December 13, 2018.

The waterway is transited by commercial and recreational traffic. The Coast Guard notified known waterway users and there were no objections to this temporary deviation. Vessels able to pass under the bridge in the closed position may do so at any time. The bridge will not be able to open for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 23, 2018.
C.J. Bisignano,
Supervisory Bridge Management Specialist, First Coast Guard District.

[FR Doc. 2018-18637 Filed 8-28-18; 8:45 am]

BILLING CODE 9110-04-P